DEPARTMENT OF HEALTH AND HUMAN SERVICES

Establishment of the Interdepartmental Substance Use Disorders Coordinating Committee and Solicitation of Nominations for Committee Members; Correction

AGENCY: U.S. Department of Health and Human Services, Office of the Secretary, Office of the Assistant Secretary for Health.

ACTION: Notice; correction.

SUMMARY: The U.S. Department of Health and Human Services (HHS) published a document in the Federal Register of May 15, 2019, concerning the establishment of the Interdepartmental Substance Use Disorders Coordinating Committee and Solicitation of Nominations for Committee Members. The document contained an inadvertent omission of the following membership category from the list of non-federal members that the Secretary of HHS will appoint to the committee: Public safety officer with extensive experience in interacting with adults with a substance use disorder.

FOR FURTHER INFORMATION CONTACT: Roula K. Sweis, Psy.D., M.A., Chief, Operations and Management, Office of the Assistant Secretary for Health; U.S. Department of Health and Human Services; Telephone: 202-260-6619; Fax: 202-690-4631; Email address: SUDCommittee@hhs.gov.

SUPPLEMENTARY INFORMATION:

Correction

In the Federal Register of May 15, 2019, in FR Doc. 2019-09969, on page 21793 under the header Membership and Designation the following category was inadvertently omitted from the list of non-federal members that the Secretary of HHS will appoint to the committee: “at least one such member will be a public safety officer with extensive experience in interacting with adults with a substance use disorder.”

Dated: May 16, 2019.
Roula K. Sweis,
Designated Federal Official.

[FR Doc. 2019-10679 Filed 5-21-19; 8:45 am]

BILLING CODE 4150-28-P